DEPARTMENT OF ENERGY

Federal Energy Regulatory Commission

[Docket No. RM01-5-000]

Electronic Tariff Filings; Notice of Changes to Etariff Refund Report Type of Filing Codes

Take notice that, effective November 27, 2011, the list of available eTariff Type of Filing Codes (TOFC) will be modified as follows:

(1) The addition of a new TOFC 1190: “Refund Report”. This code is applicable to public utilities registered with the Commission under the market based rate program making refund reports pursuant to section 35.19a(b) of the Commission's regulation.¹

¹ 18 CFR 35.19a(b) (2011).

(2) The addition of a new TOFC 1200: “Refund Report”. This code is applicable to pipelines registered with the Commission under the Part 284 rate program making refund reports pursuant to filings made under either sections 284.123 or 284.224 of the Commission's regulations.²

² 18 CFR 284.123 and 284.224 (2011).

(3) The addition of a new TOFC 1210: “Refund Report”. This code is applicable to oil pipelines making refund reports to the Commission pursuant to section 340.1(c) of the Commission's regulations.³ And;

³ 18 CFR 340.1(c) (2011).

(4) The modification of TOFC 670: “Refund Report”. This code is applicable to interstate gas pipelines. The code will be re-assigned to the Report business process category.

All the Refund Report TOFCs will use the Report category business process.⁴ Reports will not receive a separate subdocket. The Commission may not issue an order on reports.

⁴ The type of filing business process categories are described in the Implementation Guide for Electronic Filing of Parts 35, 154, 284, 300, and 341 Tariff Filings, found on the Commission's Web site, http://www.ferc.gov/docs-filing/etariff/implementation-guide.pdf.

For more information, contact Keith Pierce, Office of Energy Market Regulation at (202) 502-8525 or send an email to ETariff@ferc.gov.

Dated: November 17, 2011.
Kimberly D. Bose,
Secretary.

[FR Doc. 2011-30373 Filed 11-23-11; 8:45 am]

BILLING CODE 6717-01-P